DEPARTMENT OF EDUCATION

Notice of Proposed Information Collection Requests; Office of Planning, Evaluation and Policy Development; Evaluation of the Carol M. White Physical Education Program

SUMMARY: The Carol M. White Physical Education Program (PEP) supports a variety of projects that encourage fitness and healthy lifestyle choices among K-12 students. The U.S. Department of Education (ED) is interested in gaining a thorough understanding of what PEP projects experience related to two new program competitive preference priorities: The establishment of official partnerships and the collection and use of body mass index (BMI) measurements.

DATES: Interested persons are invited to submit comments on or before September 4, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04878. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Carol M. White Physical Education Program.

OMB Control Number: 1875-0258.

Type of Review: Revision.

Total Estimated Number of Annual Responses: 25.

Total Estimated Number of Annual Burden Hours: 77.

Abstract: To answer the evaluation questions put forth by the U.S. Department of Education (ED) on how Carol M. White Physical Education Program grantees formed and used partnerships and collection and used BMI data, five case studies will be conducted. Findings will provide feedback to both ED and grantees and will inform future improvements to the program.

Dated: June 28, 2012.
Darrin A. King,
Director, Information Collection Clearance Division, Privacy, Information and Records Management Services, Office of Management.

[FR Doc. 2012-16305 Filed 7-2-12; 8:45 am]

BILLING CODE 4000-01-P